SOCIAL SECURITY ADMINISTRATION

Privacy Act of 1974; as Amended; New System of Records and New Routine Use Disclosures

AGENCY: Social Security Administration (SSA).

ACTION: Proposed new system of records and proposed routine uses; Correction.

SUMMARY: The Social Security Administration published a document in the Federal Register on June 14, 2005, establishing a new system of records, the National Docketing Management Information System. The document contained an error in the system number.

FOR FURTHER INFORMATION CONTACT: Ms. Joyce Schaul, Social Insurance Specialist, Office of Public Disclosure, Office of the General Counsel, Social Security Administration, Room 3-A-6 Operations Building, 6401 Security Boulevard, Baltimore, Maryland 21235, email address at joyce.schaul@ssa.gov, or by telephone at (410) 965-5662.

Correction: In the Federal Register of Tuesday, June 14, 2005, in FR Doc. 05-11745, on page 34517, in the second column, “SYSTEM NUMBER: 60-0318” should read “SYSTEM NUMBER: 60-328”.

Dated: June 15, 2005.
Vincent A. Dormarrund,
Deputy Executive Director, Office of Public Disclosure, Office of the General Counsel, Social Security Administration.

[FR Doc. 05-12243 Filed 6-21-05; 8:45 am]

BILLING CODE 4191-02-M